Presidential Determination No. 2003-19 of March 28, 2003

Security Assistance to East Timor: Certification and Report Pursuant to Section 637(a)(2) of the Foreign Relations

Authorization Act, Fiscal Year 2003 (Public Law 107-228)

Memorandum for the Secretary of State

Pursuant to the authority vested in me by the Constitution and laws of the United States, including section 637(b)(2) of the Foreign Relations Authorization Act, Fiscal Year 2003, I hereby certify that East Timor has established an independent armed forces; and that the provision to East Timor of military assistance in the form of excess defense articles and international military education and training is in the national security interests of the United States, and will promote both human rights in East Timor and the professionalization of the armed forces of East Timor.

You are hereby authorized and directed to report this certification, accompanying memorandum of justification, and report on East Timor security assistance to the Congress, and to arrange for the publication of this memorandum in the Federal Register.

B

THE WHITE HOUSE,

Washington, March 28, 2003.

[FR Doc. 03-8248

Filed 4-2-03; 8:45 am]

Billing code 4710-10-M